DEPARTMENT OF ENERGY

Federal Energy Regulatory Commission

Notice of Request for Extension of Time To Commence and Complete Project Construction and Soliciting Comments, Motions To Intervene, and Protests

April 27, 2001.

Take notice that the following application has been filed with the Commission and is available for public inspection:

a. Application Type: Request for Extension of Time to Commence and Complete Project Construction.

b. Project No.: 10648-007.

c. Location: The proposed project would be located on the Hudson River, in Saratoga and Rensselear Counties, New York. The project does not utilize federal or tribal lands.

d. Date Filed: March 9, 2001.

e. Applicant: Adirondack Hydro Development Corporation.

f. Name of Project: Waterford Hydroelectric Project.

g. Pursuant to: Public Law 104-242.

h. Applicant Contact: Keith F. Corneau, Director, Corporate Development, Adirondack Hydro Development Corporation, 39 Hudson Falls Road, South Glens Falls, NY 12803, (518) 747-0930.

i. FERC Contact: Any questions on this notice should be addressed to Mr. Lynn R. Miles, at (202) 219-2671, or e-mail address: lynn.miles@ferc.fed.us.

j. Deadline for filing comments and or motions: May 4, 2001.

All documents (original and eight copies) should be filed with: David P. Boergers, Secretary, Federal Energy Regulatory Commission, Mail Code: 888 First Street, NE., Washington, DC 20426.

Please include the project numbers (10648-007) on any comments filed.

k. Description of the Request: The licensee has requested that the Commission grant its request for an additional two-year period to commence construction of the Waterford Hydroelectric Project. The deadline to commence project construction for FERC Project No. 10648 would be extended to June 9, 2003. The deadline for completion of construction would be extended to June 9, 2005.

l. Locations of the Application: A copy of the application is available for inspection and reproduction at the Commission's Public Reference Room, located at 888 First Street, NE., Room 2A, Washington, DC 20426, or by calling (202) 208-1371. This filing may be viewed on http://www.ferc.fed.us/online/rims.htm (call (202) 208-2222 for assistance). A copy is also available for inspection and reproduction at the address in item h above.

m. Individuals desiring to be included on the Commission's mailing list should so indicate by writing to the Secretary of the Commission.

n. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service Responsive Documents—Any filing must bear in all capital letters the title “COMMENTS”, “PROTEST”, or “MOTION TO INTERVENE”, as applicable, and the Project Number of the particular application to which the filing refers. An additional copy must be sent to the Director, Division of Hydropower Administration and Compliance, Federal Energy Regulatory Commission, as the above-mentioned address. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-11057 Filed 5-2-01; 8:45 am]

BILLING CODE 6717-01-M